DEPARTMENT OF ENERGY

Federal Energy Regulatory Commission

[Docket Nos. PF08-22-000; PF08-23-000]

TransCanada PipeLine USA, Ltd.; Bison Pipeline, LLC; Notice of Intent To Prepare an Environmental Impact Statement for the Proposed Pathfinder Pipeline Project and Bison Pipeline Project; Request for Comments on Environmental Issues and Notice of Public Meetings

September 30, 2008.

The Federal Energy Regulatory Commission (FERC or Commission) is in the process of preparing an environmental impact statement (EIS) on the environmental impacts of the Pathfinder Pipeline Project involving the construction and operation of a new underground natural gas pipeline proposed by TransCanada PipeLine USA, Ltd. (TransCanada). The Pathfinder project is under review in Docket No. PF08-22-000.

A related pipeline project, the proposed Bison Pipeline Project (Bison) is also currently under review in Docket No. PF08-23-000. The entire route of Bison is identical to that of the corresponding portion of Pathfinder (Segment 2) from Dead Horse to Compressor Station No. 6, as described further in Summary of the Proposed Project section of this notice.

On September 3, 2008, TransCanada announced that one of its subsidiaries acquired Bison Pipeline, LLC from Northern Border. With this acquisition, TransCanada will provide shippers on Bison the opportunity to transport their production on Pathfinder. TransCanada proposes to build either Pathfinder or Bison. Once TransCanada is in a position to confirm which of the two Projects it will pursue, TransCanada will file a request with the FERC to discontinue review of the other project. While we ¹ are requesting comments on both Pathfinder and Bison, we expect that a single project will be proposed and addressed in our EIS.

¹ “We,” “us,” and “our” refer to the environmental staff of the FERC's Office of Energy Projects.

This Notice of Intent (NOI) explains the scoping process that will be used to gather input from the public and interested agencies on the Project. Your input will help determine which issues will be evaluated in the EIS. Please note that the scoping period for this Project will close on November 3, 2008.

Comments on the Project may be submitted in written form or verbally. In lieu of, or in addition, to sending written comments, we also invite you to attend the public scoping meetings that have been scheduled in the Project area during the week of October 13, 2008. Details on how to submit comments and additional details of the public scoping meetings are provided in the Public Participation section of this notice.

The FERC will be the lead federal agency in the preparation of an EIS that will satisfy the requirements of the National Environmental Policy Act (NEPA) and will be used by the FERC to consider the environmental impacts that could result if the Commission issues a Certificate of Public Convenience and Necessity for the Project under Section 7 of the Natural Gas Act. As a part of that review we will be preparing an EIS for the proposed Project.

The Bureau of Land Management (BLM) is participating as a cooperating agency in the preparation of the EIS because the Project would cross federal lands and resources administered by the White River, Little Snake, Lander, Rawlins, Casper, Buffalo, Miles City and North Dakota Field Offices, for which the BLM has jurisdiction and/or special expertise with respect to environmental issues/impacts. The EIS will be used by the BLM to meet its NEPA responsibilities in considering TransCanada's application for a Right-of-Way Grant and Temporary Use Permit for the portion of the Project on federal land.

Although a formal application has not been filed, the FERC has already initiated its NEPA review under its pre-filing process. A pre-filing docket number has been assigned to the Pathfinder Pipeline Project (PF08-22-000) and the Bison Pipeline Project (PF08-23-000). The purpose of the pre-filing process is to encourage early involvement of interested stakeholders and to identify and resolve issues before an application is filed with the FERC.

This NOI is being sent to federal, state, and local government agencies; elected officials; affected landowners; environmental and public interest groups; Indian tribes and regional Native American organizations; commentors and other interested parties; and local libraries and newspapers. We encourage government representatives to notify their constituents of this proposed Project and encourage them to comment on their areas of concern.

If you are a landowner receiving this notice, you may be contacted by a TransCanada representative about the acquisition of an easement to construct, operate, and maintain the proposed facilities. TransCanada would seek to negotiate a mutually acceptable agreement. However, if the Project is approved by the FERC, that approval conveys with it the right of eminent domain. Therefore, if easement negotiations fail to produce an agreement, and the Project is ultimately approved by the FERC, TransCanada could initiate condemnation proceedings in accordance with state law.

A fact sheet prepared by the FERC entitled “An Interstate Natural Gas Facility on My Land? What Do I Need To Know?” is available for viewing on the FERC Internet Web site (http://www.ferc.gov/for-citizens/citizen-guides.asp). This fact sheet addresses a number of typically asked questions, including the use of eminent domain and how to participate in FERC's proceedings.

Summary of the Proposed Project

TransCanada has announced its proposal to construct and operate a new natural gas pipeline and associated structures with a maximum capacity of 1.6 billion cubic feet per day. As shown in Appendix 1,² the Pathfinder Project would be located in portions of Colorado, Wyoming, Montana, and North Dakota and would consist of 673 miles of 36-inch-diameter pipeline running from Meeker, Rio Blanco County, Colorado to near Glen Ullin, Morton County, North Dakota. The currently proposed pipeline route would travel across Rio Blanco and Moffat Counties in Colorado; Carbon, Sweetwater, Freemont, Natrona, Johnson, and Campbell Counties in Wyoming; Powder River, Carter, and Fallon Counties in Montana; and Bowman, Slope, Hettinger, Stark, Grant, and Morton Counties, North Dakota. The pipeline would connect to the existing Northern Border mainline pipeline system in southwest North Dakota and would deliver natural gas to primarily midwestern markets. The proposed Pathfinder Project includes an 11-mile-long supply lateral,³ the Wamsutter Segment, located near Wamsutter, Sweetwater County, Wyoming to connect the Pathfinder Pipeline Project mainline to natural gas supply in the Green River Basin. Certain associated aboveground facilities are also proposed. Mainline valves spaced at intervals along the pipeline as defined by U.S. Department of Transportation regulations per the Code of Federal Regulations (CFR) 49 Part 192, eight compressor stations, four meter stations, and seven pig launcher and receiver facilities are currently proposed.

² The appendices referenced in this notice are not printed in the Federal Register, but they are being provided to all those who receive this notice in the mail. Copies of the NOI can be obtained from the Commission's Web site at the “eLibrary” link, from the Commission's Public Reference Room, or by calling (202) 502-8371. For instructions on connecting to eLibrary, refer to the end of this notice.

³ A lateral pipeline typically takes gas from the main system to deliver it to a customer or receives gas from a storage or supply source.

More specifically, TransCanada proposes the following primary components for the Pathfinder Project:

• 673 miles of 36-inch diameter underground natural gas pipeline consisting of four segments:

➢ Meeker Segment: 130 miles of pipeline from an existing gathering hub near Meeker, Colorado to Wamsutter, Wyoming;

➢ Segment 1: 236 miles of pipeline from Wamsutter, Wyoming to Dead Horse in Campbell County, Wyoming; and

➢ Segment 2: 297 miles of pipeline commencing in Dead Horse and terminating at the Northern Border Pipeline Company's existing Compressor Station No. 6 in Morton County, North Dakota: and

➢ Wamsutter Segment: 11 miles of pipeline extending from the existing Echo Springs gas plant to the intersection of the Pathfinder Meeker Segment and Segment 1 in Wamsutter, Wyoming;

• A new 10,000 horsepower compressor station at milepost (MP) 0.0 of the Wamsutter Segment near Echo Springs, Wyoming;

• A new 30,000 horsepower compressor station at MP 153 in Sweetwater County, Wyoming;

• A new 30,000 horsepower compressor station at MP 221 in Freemont County, Wyoming;

• A new 30,000 horsepower compressor station at MP 301 in Natrona County, Wyoming;

• A new 30,000 horsepower compressor station at MP 374 in Campbell County, Wyoming;

• A new 30,000 horsepower compressor station at MP 453 in Powder River County, Montana;

• A new 30,000 horsepower compressor station at MP 535 in Fallon County, Montana;

• A new 30,000 horsepower compressor station at MP 619 in Hettinger County, North Dakota;

• One meter station and one pig launcher on the Meeker Segment; one meter station, one pig launcher, and one pig receiver on the Wamsutter Segment; one meter station and three pig launcher/receivers on Segment 1; and two meter stations, two pig launcher/receivers, and one pig receiver on Segment 2;

• Approximately 36 mainline valves generally located at 20-mile intervals along the pipeline;

• Temporary pipe storage and contractor yards at various locations along the pipeline for office trailers, parking, and pipe and equipment storage during construction; and

• Temporary construction roadways and short permanent roads from existing roads to meter station sites and other aboveground facilities.

Bison would consist of approximately 297 miles of 24-inch-diameter natural gas pipeline and related pipeline system facilities that would move gas northeastward from Dead Horse across the southeastern corner of Montana and into central North Dakota where it interconnects with the Northern Border pipeline system near Compressor Station No. 6 in Morton County. The entire route of Bison is identical to that of the corresponding portion of Pathfinder (Segment 2) from Dead Horse to Compressor Station No. 6.

Location maps depicting the proposed facilities are attached to this NOI as Appendix 1.

The EIS Process

NEPA requires the Commission to take into account the environmental impacts that could result from an action when it considers whether or not a natural gas pipeline should be approved. FERC will use the EIS to consider the environmental impacts that could result if it issues a Project authorization to TransCanada under Section 7 of the Natural Gas Act. NEPA also requires us to discover and address concerns the public may have about proposals. This process is referred to as “scoping.” The main goal of scoping is to focus the analysis in the EIS on the important environmental issues. With this NOI, we are requesting public comments on the issues to be addressed in the EIS. All comments received will be considered during preparation of the EIS.

In the EIS we will discuss impacts that could occur as a result of the construction, operation, and maintenance of the proposed Project under these general headings:

• Geology and soils;

• Water resources;

• Aquatic resources;

• Vegetation and wildlife;

• Threatened and endangered species;

• Land use, recreation, and visual resources;

• Cultural resources;

• Socioeconomics;

• Air quality and noise;

• Reliability and safety;

• Cumulative impacts.

In the EIS, we will also evaluate possible alternatives to the proposed Project or portions of the Project, and make recommendations on how to lessen or avoid impacts on affected resources.

Our independent analysis of the issues will be included in a draft EIS. The draft EIS will be mailed to federal, state, and local government agencies; elected officials; affected landowners; environmental and public interest groups; Indian tribes and regional Native American organizations; commentors; other interested parties; local libraries and newspapers; and FERC's official service list for this proceeding. There will be at minimum a 45-day comment period allotted for review of the draft EIS. We will consider all comments on the draft EIS and revise the document, if necessary, before issuing a final EIS. We will then consider all comments on the final EIS before we make our recommendations to the Commission. To ensure that your comments are considered, please follow the instructions in the Public Participation section of this NOI.

With this NOI, we are asking federal, state, and local agencies with jurisdiction and/or special expertise with respect to environmental issues to formally cooperate with us in the preparation of the EIS. These agencies may choose to participate once they have evaluated the proposal relative to their responsibilities. As previously discussed, the BLM has agreed to become a cooperating agency and would use the EIS to fulfill its NEPA responsibilities in considering the potential issuance of a Right-of-Way Grant and Temporary Use Permit for the portion of the Project on federal land. Additional agencies that would like to request cooperating agency status should follow the instructions for filing comments provided under the Public Participation section of this NOI.

The EIS will examine the proposed action and alternatives that require administrative or other actions by other federal agencies.

Currently Identified Environmental Issues

We have already identified issues that we think deserve attention based on our previous experience with similar projects in the region. This preliminary list of issues, which is presented below, may be revised based on your comments and our continuing analyses specific to the Pathfinder Project.

• Potential for disturbance to residents along pipeline construction route, including noise and aesthetics;

• Potential impacts to the viewshed from construction activities and placement of aboveground facilities;

• Potential for geological hazards, including seismic activity, to have impacts on the pipeline;

• Potential impacts of the pipeline on waterbodies and wetlands, including issues of erosion control;

• Potential impacts of the pipeline on vegetation, including the clearing and revegetation of existing plant communities and, in particular, the clearing of riparian areas;

• Potential impacts of the pipeline on threatened and endangered species and wildlife habitat;

• Potential impacts of the pipeline on cultural resources, including paleontological resources and historic trails; and

• Potential impacts of the pipeline on recreation and scenic resources.

Public Participation

You can make a difference by providing us with your specific comments or concerns about the Pathfinder Project or Bison Project. Your comments should focus on the potential environmental effects, reasonable alternatives, and measures to avoid or lessen environmental impacts. The more specific your comments, the more useful they will be. To ensure that your comments are timely and properly recorded, please send in your comments so that they will be received in Washington, DC on or before November 3, 2008.

Comments on the proposed Project can be submitted to the FERC in written form or verbally at the public scoping meetings. For your convenience, there are three methods which you can use to submit your written comments to the Commission. In all instances please reference the Project docket number (PF08-22-000 or PF08-23-000) with your submission. The three methods are:

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing”; or

(3) You may file your comments via mail to the Commission by sending an original and two copies of your letter to:

Kimberly D. Bose, Secretary, Federal Energy Regulatory Commission, 888 First St., NE., Room 1A, Washington, DC 20426.

Label one copy of the comments for the attention of Gas Branch 3, PJ-11.3.

The public scoping meetings (dates, times, and locations listed below) are designed to provide another opportunity to offer comments on the proposed Project. Interested groups and individuals are encouraged to attend the meetings and to present comments on the environmental issues that they believe should be addressed in the EIS.

A transcript of the meetings will be generated so that your comments can be accurately recorded. All meetings are scheduled to run from 6 to 8 p.m., and are scheduled as follows:

Date | Location
Monday, October 13, 6 to 8 pm | Best Western Tower West Lodge, 109 N. U.S. Highway 14-16, Gillette, Wyoming 82716.
Tuesday, October 14, 6 to 8 pm | Roosevelt High School, 140 East K Street, Casper, Wyoming 82601.
| Broadus High School, 500 North Trautman, Broadus, MT 59317.
Wednesday, October 15, 6 to 8 pm | Jeffrey Memorial Center, 315 East Pine Street, Rawlins, Wyoming 82301.
| Bowman City Hall, 101 1st Street NE, Bowman, North Dakota 58623.
Thursday, October 16, 6 to 8 pm | Holiday Inn Suites, 300 South Colorado Highway 13, Craig, Colorado 81625.
| Parish Hall—Sacred Heart Church, 204 Oak Avenue East, Glen Ullin, North Dakota 58631.

The Commission encourages electronic filing of comments and has dedicated eFiling expert staff available to assist you at 202-502-8258 or efiling@ferc.gov.

Once TransCanada formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

Everyone who responds to this notice or provides comments throughout the EIS process will be retained on our mailing list for this Project. If you do not want to send comments at this time but want to stay informed and receive copies of the draft and final EIS, you must return the Mailing List Retention Form (Appendix 2). If you do not send comments or return the Mailing List Retention Form asking to remain on the mailing list, you will be taken off the mailing list.

Additional Information

Additional information about the Project is available from the Commission's Office of External Affairs at 1-866-208-FERC (3372), or on the FERC Internet Web site (http://www.ferc.gov) using the “eLibrary link.” Click on the eLibrary link, select “General Search” and enter the Project docket number, excluding the last three digits (i.e., PF08-22) in the “Docket Number” field. Be sure you have selected an appropriate date range. For assistance with eLibrary, the eLibrary helpline can be reached at 1-866-208-3676, TTY (202) 502-8659, or by e-mail at FERCOnlineSupport@ferc.gov. The eLibrary link on the FERC Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information. Finally, TransCanada has established a Web site for the Project at http://www.transcanada.com/company/pathfinder.html. The Web site includes a Project overview, timeline, safety and environmental information, and public outreach. You can also request additional information by contacting TransCanada directly at:

E-mail: pathfinder@transcanada.com.

Mailing address: Pathfinder Pipeline Project, PO Box 6160, Broomfield, CO 80021.

Toll-free telephone: (866) 509-2270.

Nathaniel J. Davis, Sr.,
Deputy Secretary.

[FR Doc. E8-23500 Filed 10-3-08; 8:45 am]

BILLING CODE 6717-01-P